DEPARTMENT OF AGRICULTURE

Forest Service

Lake Tahoe Basin Federal Advisory Committee

AGENCY: Forest Service, USDA.

ACTION: Notice of meeting.

SUMMARY: The Lake Tahoe Basin Federal Advisory Committee will hold a meeting on January 21, 2009 on the north shore of Lake Tahoe. This Committee, established by the Secretary of Agriculture on December 15, 1998 (64 FR 2876), is chartered to provide advice to the Secretary on implementing the terms of the Federal Interagency Partnership on the Lake Tahoe Region and other matters raised by the Secretary.

DATES: The meeting will be held January 21, 2009 beginning at 1 p.m. and ending at 5 p.m.

ADDRESSES: The meeting will be held on the north shore of Lake Tahoe. A final location can be confirmed at http://www.fs.fed.us/r5/ltbmu/Iocallltfac.

FOR FURTHER INFORMATION CONTACT: Arla Hains, Lake Tahoe Basin Management Unit (LTBMU), Forest Service, 35 College Drive, South Lake Tahoe, CA 96150, (530) 543-2773.

SUPPLEMENTARY INFORMATION: Items to be covered on the agenda include:

☐ Committee operations.

☐ Lake Tahoe SNPLMA Round 10 status and calendar update.

☐ Status of the Lake Tahoe Basin Management Unit Forest Plan Revision and Tahoe Region Planning Agency Regional Plan update.

☐ Status of the Lake Tahoe Restoration Act (LTRA) reauthorization.

Issues may be brought to the attention of the Committee during the open public comment period at the meeting or by filing written statements for the Committee before or after the meeting. Please refer any written comments attention Arla Hams, Lake Tahoe Basin Management Unit at the contact address stated above.

If you have questions concerning special needs for this public meeting, or to request sign language interpretation, contact Linda Lind, no later than January 19, 2009 at (530) 543-2787 or TTY (530) 543-0956, or via e-mail at LLind@afs.fed.us.

This Federal Register notice will be published less than 15 calendar days before the meeting based on these exceptional circumstances: (1) Due to the holidays LTFAC members were not available to schedule the meeting; and (2) there will be timely meeting notification through the LTBMU Web site (http://www.fs.fed.us/r5/ltbmu/local/ltfac).

Dated: January 9, 2009.
Michael Gabor,
Acting Forest Supervisor.

[FR Doc. E9-722 Filed 1-16-09; 8:45 am]

BILLING CODE 3410-11-P